DEPARTMENT OF EDUCATION

National Institute on Disability and Rehabilitation Research

AGENCY: Office of Special Education and Rehabilitative Services, Department of Education.

ACTION: Notice of proposed priority.

SUMMARY: The Assistant Secretary for Special Education and Rehabilitative Services proposes a priority for Developing Models To Promote the Use of NIDRR Research under the Disability and Rehabilitation Research (DRRP) Program of the National Institute on Disability and Rehabilitation Research (NIDRR). The Assistant Secretary may use this priority for competitions in fiscal year (FY) 2002. We take this action to focus research attention on an identified national need. We intend this priority to improve rehabilitation services and outcomes for individuals with disabilities.

DATES: We must receive your comments on or before June 28, 2002.

ADDRESSES: Address all comments about this proposed priority to Donna Nangle, U.S. Department of Education, 400 Maryland Avenue, SW., room 3412, Switzer Building, Washington, DC 20202-2645. If you prefer to send your comments through the Internet, use the following address: donna.nangle@ed.gov.

FOR FURTHER INFORMATION CONTACT: Donna Nangle. Telephone: (202) 205-5880 or via the Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this priority in room 3412, Switzer Building, 330 C Street, SW., Washington, DC, between the hours of 8:30 a.m. and 4:00 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

Disability and Rehabilitation Research Projects (DRRP) Program

The purpose of the DRRP Program is to plan and conduct research, demonstration projects, training, and related activities that help (1) to maximize the full inclusion and integration of individuals with disabilities into society, and (2) to improve the effectiveness of services authorized under the Rehabilitation Act of 1973, as amended (the Act).

This priority reflects issues discussed in the New Freedom Initiative (NFI) and NIDRR's Long-Range Plan (the Plan). The NFI can be accessed on the Internet at: http://www.whitehouse.gov/news/freedominitiative/freedominiative.html.

The Plan can be accessed on the Internet at: http://www.ed.gov/offices/OSERS/NIDRR/Products.

We will announce the final priority in a notice in the Federal Register. We will determine the final priority after considering responses to this notice and other information available to the Department. This notice does not preclude us from proposing or funding additional priorities, subject to meeting applicable rulemaking requirements.

Note: This notice does not solicit applications. If we choose to use this proposed priority, we invite applications through a notice in the Federal Register. When inviting applications we designate the priority as absolute, competitive preference, or invitational. The effect of each type of priority follows:

Absolute Priority

Under an absolute priority, we consider only applications that meet the priority (34 CFR 75.105(c)(3)).

Competitive Preference Priority

Under a competitive preference priority, we give competitive preference to an application by either (1) awarding additional points, depending on how well or the extent to which the application meets the priority (34 CFR 75.105(c)(2)(i)); or (2) selecting an application that meets the priority over an application of comparable merit that does not meet the priority (34 CFR 75.105(c)(2)(ii)).

Invitational Priority

Under an invitational priority, we are particularly interested in applications that meet the invitational priority. However, we do not give an application that meets the priority a competitive or absolute preference over other applications (34 CFR 75.105(c)(1)).

Priority

Background

NIDRR proposes to develop models to ensure that the findings of NIDRR-sponsored research and products have practical applications in activities related to serving individuals with disabilities. This proposed priority invites an examination of the ways in which NIDRR-supported research findings can be of use to individuals with disabilities, researchers, and professionals, such as vocational rehabilitation counselors. The models to be developed under this proposed priority are to be based on NIDRR research topics related to the NFI and the Plan.

The models would be used to help researchers plan for the widespread use of NIDRR research results and measure success. The models must be well documented so that they can be replicated by other grantees. The models will vary depending on the kind and level of information, the intended users of the information, and the circumstances available to disseminate the information.

NIDRR emphasizes the participation of individuals with disabilities in the formulation and conduct of research studies. It also stresses that the ultimate purpose of NIDRR research is to further the NIDRR mission and increase the participation of individuals with disabilities in all aspects of education, employment, and community participation.

You may obtain additional information about the background of this priority by contacting the person listed under FOR FURTHER INFORMATION CONTACT.

Proposed Priority—Developing Models To Promote the Use of NIDRR Research

This proposed priority is intended to develop models for the increased and more effective use of NIDRR research results.

To be funded under this priority a project would be required to—

(1) Analyze research information produced by NIDRR grantees to determine the extent to which any of the information has not been disseminated or has been disseminated but not effectively used.

(2) Develop models for particular kinds of information, such as engineering, health, employment, education, and independent living, and for particular intended groups such as professionals, individuals with disabilities, families, and researchers.

(3) Describe the models and prepare training materials to assist others to use the models.

(4) Test each model.

(5) Evaluate the success of each model.

In carrying out these activities, the project must:

• Provide training for NIDRR research projects and centers;

• Ensure the relevance of all activities to individuals with disabilities;

• Include techniques to reach individuals from diverse racial, ethnic, and cultural backgrounds; and

• Collaborate with NIDRR-funded projects and centers.

Applicable Program Regulations

34 CFR part 350.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number 84.133A, Disability Rehabilitation Research Project)

Program Authority: 29 U.S.C. 762(g) and 764(b).

Dated: May 15, 2002.
Loretta L. Petty,
Acting Assistant Secretary for Special Education and Rehabilitative Services.

[FR Doc. 02-13400 Filed 5-28-02; 8:45 am]

BILLING CODE 4000-01-P